DEPARTMENT OF JUSTICE

[OMB Number 1125-0005]

Agency Information Collection Activities; Proposed Collection; Comments Requested; Request To Be Included on the List of Pro Bono Legal Service Providers for Individuals in Immigration Proceedings (Form EOIR-56)

AGENCY: Executive Office for Immigration Review, Department of Justice.

ACTION: 60-day Notice.

SUMMARY: The Department of Justice (DOJ), Executive Office for Immigration Review, will be submitting the following information collection request to the Office of Management and Budget (OMB) for review and approval in accordance with the Paperwork Reduction Act of 1995.

DATES: Comments are encouraged and will be accepted for 60 days until September 27, 2019.

FOR FURTHER INFORMATION CONTACT: If you have additional comments especially on the estimated public burden or associated response time, suggestions, or need a copy of the proposed information collection instrument with instructions or additional information, please contact Lauren Alder Reid, Assistant Director, Office of Policy, Executive Office for Immigration Review, 5107 Leesburg Pike, Suite 2500, Falls Church, VA 22041, telephone: (703) 305-0289.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: Request to be Included on the List of Pro Bono Legal Service Providers for Individuals in Immigration Proceedings.

3. The agency form number: EOIR-56 (OMB #1125-0015).

4. Affected public who will be asked or required to respond, as well as a brief abstract: Primary: Legal service providers seeking to be included on the List of Pro Bono Legal Service Providers (“List”), a list of persons who have indicated their availability to represent aliens on a pro bono basis. Abstract: EOIR seeks approval to implement an electronic system to apply for and renew participation in the List, in addition to maintaining the paper version of the EOIR Form-56. Use of the electronic system is mandatory, and the paper collection should only be used when the electronic system is unavailable. This is intended to elicit, in a uniform manner, all of the required information for EOIR to determine whether an applicant meets the eligibility requirements for inclusion on the List.

5. An estimate of the total number of respondents and the amount of time estimated for an average respondent to respond: It is estimated that 107 respondents will complete each form within approximately 30 minutes.

6. An estimate of the total public burden (in hours) associated with the collection: 53.50 annual burden hours.

If additional information is required contact: Melody Braswell, Department Clearance Officer, United States Department of Justice, Justice Management Division, Policy and Planning Staff, Two Constitution Square, 145 N Street NE, 3E.405B, Washington, DC 20530.

Dated: August 23, 2019.
Melody D. Braswell,
Department Clearance Officer for PRA, U.S. Department of Justice.

[FR Doc. 2019-18566 Filed 8-27-19; 8:45 am]

BILLING CODE 4410-30-P